DEPARTMENT OF COMMERCE

International Trade Administration

[Application No. 97-14A03]

Export Trade Certificate of Review

ACTION: Notice of issuance of an amended Export Trade Certificate of Review for the Association for the Administration of Rice Quotas, Inc., Application No. 97-14A03.

SUMMARY: The Secretary of Commerce, through the Office of Trade and Economic Analysis (OTEA), issued an amended Export Trade Certificate of Review to the Association for the Administration of Rice Quotas, Inc. on July 9, 2025.

FOR FURTHER INFORMATION CONTACT: Amanda Reynolds, Acting Director, OTEA, International Trade Administration, (202) 482-5131 (this is not a toll-free number) or email at etca@trade.gov.

SUPPLEMENTARY INFORMATION: Title III of the Export Trading Company Act of 1982 (15 U.S.C. 4011-21) (the Act) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Conduct

The Association for the Administration of Rice Quotas, Inc. amended its Certificate as follows:

1. Made the necessary technical changes to account for the withdrawal of the United Kingdom (UK) from the European Union (EU), including allocations of TRQ volumes for U.S. milled/semi-milled rice across the EU and the UK. The Certificate covers exports of U.S. milled/semi-milled rice to both the EU and UK under the relevant TRQs.

2. Removed the following companies as Members of the Certificate:

• Bunge Milling, Saint Louis, Missouri (a subsidiary of Bunge North America, White Plains, New York), dba PIRMI (Pacific International Rice Mills), Woodland, California

• Gulf Pacific Disc, Inc., Houston, Texas

• Nidera US LLC, Wilton, Connecticut (a subsidiary of Nidera BV (Netherlands))

3. Added an affiliate Member under an existing Member:

• Farmers’ Rice Cooperative, Sacramento, California changes to Farmers’ Rice Cooperative, Sacramento, California and its subsidiary Farmers' Rice Cooperative dba Pirmi (Pacific International Rice Mills), Woodland, California

• TRC Trading Corporation, Roseville, California (a subsidiary of TRC Group Inc., Roseville, California) and its subsidiary Gulf Rice Arkansas II, LLC, Crawfordsville, Arkansas changes to TRC Trading Corporation, Roseville, California (a subsidiary of nonmember TRC Group Inc., Roseville, California) and its subsidiaries Gulf Rice Arkansas II, LLC, Crawfordsville, Arkansas and Bulk Agricultural Commodities, LLC, Roseville, California

4. Changed the names of the following Members of the Certificate:

• ADM Latin, Inc., Decatur, Illinois, ADM Grain Company, Decatur, Illinois, and ADM Rice, Inc., Tarrytown, New York (subsidiaries of Archer Daniels Midland Company) changes to ADM Latin, Inc., Decatur, Illinois, ADM Grain Company, Decatur, Illinois, and ADM Rice, Inc., White Plains, New York (subsidiaries of nonmember Archer Daniels Midland Company)

• American Commodity Company, LLC, Williams, California changes to American Commodity Company, LLC, Williams, California, managed by nonmember California Commodity Traders, Inc., Incline Village, Nevada

• Gulf Pacific Rice Co., Inc., Houston, Texas; Gulf Rice Milling, Inc., Houston, Texas; and Harvest Rice, Inc., McGehee, Arkansas (each a subsidiary of Gulf Pacific, Inc., Houston, Texas) changes to Gulf Pacific Rice Co., LLC, Houston, Texas; Gulf Rice Milling, LLC, Houston, Texas; and Harvest Rice, LLC, McGehee, Arkansas (each a subsidiary of nonmember Gulf Pacific, LLC, Houston, Texas)

• Louisiana Rice Mill, LLC, Mermentau, Louisiana changes to Supreme Rice, LLC, Mermentau, Louisiana

List of Members, as Amended

• ADM Latin, Inc., Decatur, Illinois, ADM Grain Company, Decatur, Illinois, and ADM Rice, Inc., White Plains, New York (subsidiaries of nonmember Archer Daniels Midland Company)

• American Commodity Company, LLC, Williams, California, managed by nonmember California Commodity Traders, Inc., Incline Village, Nevada

• Associated Rice Marketing Cooperative (ARMCO), Richvale, California

• Cargill Americas, Inc., and its subsidiary CAI Trading, LLC, Coral Gables, Florida

• Farmers’ Rice Cooperative, Sacramento, California and its subsidiary Farmers' Rice Cooperative dba Pirmi (Pacific International Rice Mills), Woodland, California

• Farmers Rice Milling Company, Inc., Lake Charles, Louisiana

• Far West Rice, Inc., Durham, California

• Gulf Pacific Rice Co., LLC, Houston, Texas; Gulf Rice Milling, LLC, Houston, Texas; and Harvest Rice, LLC, McGehee, Arkansas (each a subsidiary of nonmember Gulf Pacific, LLC, Houston, Texas)

• Interra International, LLC, Chapel Hill, North Carolina

• Itochu International Inc., Portland, Oregon (a subsidiary of nonmember ltochu Corporation (Japan))

• JFC International Inc., Los Angeles, California (a subsidiary of nonmember Kikkoman Corp.)

• JIT Products, Inc., Davis, California

• Kennedy Rice Dryers, L.L.C., Mer Rouge, Louisiana

• Kitoku America, Inc., Burlingame, California (a subsidiary of nonmember Kitoku Shinryo Co., Ltd. (Japan))

• LD Commodities Rice Merchandising LLC, Wilton, Connecticut, and LD Commodities Interior Rice Merchandising LLC, Kansas City, Missouri (subsidiaries of nonmember Louis Dreyfus Commodities LLC, Wilton, Connecticut)

• Nishimoto Trading Co., Ltd., dba Wismettac Asian Foods, Santa Fe Springs, California (a subsidiary of nonmember Nishimoto Trading Company, Ltd. (Japan))

• Producers Rice Mill, Inc., Stuttgart, Arkansas

• Riceland Foods, Inc., Stuttgart, Arkansas

• Riviana Foods Inc., Houston, Texas (a subsidiary of nonmember Ebro Foods, S.A. (Spain)), for the activities of itself and its subsidiary, American Rice, Inc., Houston, Texas

• Sinamco Trading Inc., Minneapolis, Minnesota

• SunFoods LLC, Woodland, California

• SunWest Foods, Inc., Davis, California

• Supreme Rice, LLC, Mermentau, Louisiana

• The Sun Valley Rice Co., LLC, Arbuckle, California

• TRC Trading Corporation, Roseville, California (a subsidiary of nonmember TRC Group, Inc., Roseville, California) and its subsidiaries, Gulf Rice Arkansas II, LLC, Crawfordsville, Arkansas and Bulk Agricultural Commodities, LLC, Roseville, California

• Trujillo & Sons, Inc., Miami, Florida

• Veetee Foods, Inc., Islandia, New York (a subsidiary of nonmember Veetee Investments Corporation (Bahamas))

• Wehah Farm, Inc., dba Lundberg Family Farms, Richvale, California

The effective date of the amended certificate is April 10, 2025, the date on which AARQ'S application to amend was deemed submitted.

Dated: August 19, 2025.
Isabella Gabriele,
International Economist, Office of Trade and Economic Analysis, International Trade Administration, U.S. Department of Commerce.

[FR Doc. 2025-16026 Filed 8-20-25; 8:45 am]

BILLING CODE 3510-DR-P